DEPARTMENT OF COMMERCE

Foreign-Trade Zones Board

[S-16-2017]

Approval of Expansion of Subzone 20E; STIHL Incorporated, Virginia Beach, Virginia

On February 6, 2017, the Executive Secretary of the Foreign-Trade Zones (FTZ) Board docketed an application submitted by the Virginia Port Authority, grantee of FTZ 20, requesting the expansion of Subzone 20E on behalf of STIHL Incorporated in Virginia Beach, Virginia, subject to the existing activation limit of FTZ 20 applying to all sites of the expanded subzone.

The application was processed in accordance with the FTZ Act and Regulations, including notice in the Federal Register inviting public comment (82 FR 11341-11342, February 22, 2017). The FTZ staff examiner reviewed the application and determined that it meets the criteria for approval. Pursuant to the authority delegated to the FTZ Board's Executive Secretary (15 CFR 400.36(f)), the application to expand Subzone 20E is approved, subject to the FTZ Act and the Board's regulations, including § 400.13, and further subject to FTZ 20's 2,000-acre activation limit.

Dated: April 13, 2017.
Andrew McGilvray,
Executive Secretary.

[FR Doc. 2017-07899 Filed 4-18-17; 8:45 am]

BILLING CODE 3510-DS-P